DEPARTMENT OF THE INTERIOR

Geological Survey

Technology Transfer Act of 1986

AGENCY: U.S. Geological Survey, Interior.

ACTION: Notice of proposed Cooperative Research and Development Agreement (CRADA) negotiations.

SUMMARY: The United States Geological Survey (USGS) is contemplating entering into a Cooperative Research and Development Agreement (CRADA) with Montgomery Watson Laboratories (“MWL”), a division of Montgomery Watson Americas, a Colorado Company, which has its principal place of business at 553 E. Walnut, Pasadena, CA 91101; Hach Company (“Hach”), a Delaware Company, which has its principal place of business at P.O. Box 389, Loveland, Colorado 80539-0389; Office of Water (“OW”), Office of Groundwater and Drinking Water, Technical Support Center (“TSC”), of the U.S. Environmental Protection Agency (“EPA”); Regions 2's Division of Environmental Science and Assessment (“DESA”), of the U.S. Environmental Protection Agency (“EPA”); Region 3's Environmental Science Center, of the U.S. Environmental Protection Agency (“EPA”); Unified Sewerage Agency (“USA”), a XXXX of the State of Oregon, located at 155 N. First Avenue, Suite 270, Hillsboro, OR 97124, Hampton Roads Sanitation District (“HRSD”), a XXXX of the State of Virginia, located at 1432 Air Rail Avenue, Virginia Beach, Virginia 23471; Oregon Department of Environmental Quality (“OREDEQ”) Laboratory Division, a Department of the State of Oregon, located at 1712 SW 11th Avenue, Portland, OR 97201; Demonstrate the validity of the Performance Based System (PBMS) by establishing a pilot study to verify a non-USEPA approved method for the measurement of Chemical Oxygen Demand (COD). The currently approved method for COD requires mercury, a hazardous and potentially carcinogenic metal, which results in high disposal and recycling costs and potentially hazardous exposure to analysts. The new method is potentially advantageous because hazardous or carcinogenic reagents are not used, making this procedure a more environmentally sound practice. This new analytical method, as with all other methods, is only approved after validation. This CRADA deals with an approach to validate new analytical methodology.

ADDRESSES: Inquiries may be addressed to the National Water Quality Laboratory, U.S. Geological Survey, P.O. Box 25046, Denver Federal Center, Building 95, MS 407, Denver, CO 80225-0046; Telephone (303) 236-3501, facsimile (303) 236-3499; Internet mshockey@usgs.gov.

FOR FURTHER INFORMATION CONTACT: Merle W. Shockey, address above.

SUPPLEMENTARY INFORMATION: This notice is to meet the USGS requirement stipulated in Survey Manual

Dated: December 18, 2000.
Robert M. Hirsch,
Associate Director for Water.

[FR Doc. 00-33243 Filed 12-27-00; 8:45 am]

BILLING CODE 4310-Y7-M